DEPARTMENT OF HEALTH AND HUMAN SERVICES

Food and Drug Administration

[Docket Nos. FDA-2023-N-1157; FDA-2022-D-0109; FDA-2020-N-0908; FDA-2022-D-0814; FDA-2022-D-0745; FDA-2023-N-1006; FDA-2023-N-1053; FDA-2023-N-2286; FDA-2023-N-1661; FDA-2013-N-1119; FDA-2023-N-2986; FDA-2009-N-0582; FDA-2023-N-1272; FDA-2023-N-2030; FDA-2023-N-1189]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: JonnaLynn Capezzuto, Office of Operations, Food and Drug Administration, Three White Flint North, 10A-12M, 11601 Landsdown St., North Bethesda, MD 20852, 301-796-3794, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1.—List of Information Collections Approved By OMB
Title of collection | OMB control No. | Date approval expires
Generic Clearance for Qualitative Data to Support Social and Behavioral Research for Food, Dietary Supplements, Cosmetics, and Animal Food and Feed | 0910-0891 | 9/30/2026
Medical Devices—Voluntary Improvement Program | 0910-0922 | 9/30/2026
Submission of Petitions: Food Additive, Color Additive (Including Labeling), Submission of Information to a Master File in Support of Petitions, and Electronic Submission Using FDA Form 3503 | 0910-0016 | 10/31/2026
Infant Formula Requirements | 0910-0256 | 10/31/2026
Biologics License Applications; Procedures & Requirements | 0910-0338 | 10/31/2026
Medical Devices; Reports of Corrections and Removals | 0910-0359 | 10/31/2026
Customer/Partner Satisfaction Service Surveys | 0910-0360 | 10/31/2026
Voluntary National Retail Food Regulatory Program Standards | 0910-0621 | 10/31/2026
Expanded Access to Investigational Drugs for Treatment Use | 0910-0814 | 10/31/2026
Food Canning Establishment Registration, Process Filing and Recordkeeping for Acidified and Thermally Processed Low-Acid Foods | 0910-0037 | 11/30/2026
Color Additive Certification | 0910-0216 | 11/30/2026
Reporting and Recordkeeping Requirements for Reportable Food | 0910-0643 | 11/30/2026
Prescription Drug Advertisements; Presentation of Advertisements in Television and Radio | 0910-0686 | 11/30/2026
Submission to CDRH Allegations of Regulatory Misconduct Associated with Medical Devices | 0910-0769 | 11/30/2026
Importation of Prescription Drugs | 0910-0888 | 11/30/2026

Dated: December 19, 2023.
Lauren K. Roth,
Associate Commissioner for Policy.

[FR Doc. 2023-28290 Filed 12-21-23; 8:45 am]

BILLING CODE 4164-01-P